DEPARTMENT OF AGRICULTURE

Food Safety and Inspection Service

[Docket No. FSIS-2018-0022]

Availability of Guideline for Minimizing the Risk of Campylobacter and Salmonella Illnesses Associated With Chicken Liver

AGENCY: Food Safety and Inspection Service, USDA.

ACTION: Notice of availability and request for comment.

SUMMARY: The Food Safety and Inspection Service (FSIS) is announcing the availability of and requesting comments on a guideline to assist FSIS-regulated establishments, retail food outlets, and foodservice entities in minimizing public health risks associated with raw or partially-cooked chicken liver. FSIS developed the guideline because there have been several recent Campylobacter and Salmonella illness outbreaks linked to chicken liver dishes like pâté. The guideline represents FSIS's current thinking on this topic and FSIS encourages all affected operations to use it. This document does not present or describe any new regulatory requirements.

DATES: Submit Comments on or before September 28, 2018.

ADDRESSES: A downloadable version of the guideline is available to view and print at https://www.fsis.usda.gov/wps/portal/fsis/topics/regulatory-compliance/compliance-guides-index once copies of the guideline have been published.

FSIS invites interested persons to submit comments on this notice. Comments may be submitted by one of the following methods:

• Federal eRulemaking Portal: This website provides the ability to type short comments directly into the comment field on this web page or attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2018-0022. Comments received in response to this docket will be made available for public inspection and posted without change, including any personal information, to http://www.regulations.gov.

Docket: For access to background documents or comments received, call (202)720-5627 to schedule a time to visit the FSIS Docket Room at 1400 Independence Avenue SW, Room 6065, Washington, DC 20250-3700.

For Further Information Contact: Roberta Wagner, Assistant Administrator, Office of Policy and Program Development; Telephone: (202) 205-0495.

SUPPLEMENTARY INFORMATION:

Background

FSIS is responsible for verifying that the nation's commercial supply of meat, poultry, and egg products is safe, wholesome, and properly labeled and packaged.

Salmonella and Campylobacter bacteria are among the most frequent causes of human foodborne illness in the United States. Currently, contamination of raw poultry carcasses and parts cannot be eliminated through the commercial production and slaughter practices employed by U.S. industry. Contamination can be minimized, however, with the use of proper sanitary dressing procedures and by the application of interventions during slaughter and subsequent fabrication.

Salmonella and Campylobacter present on raw poultry carcasses and parts will survive if the contaminated products are not subjected to a full lethality treatment, such as thorough cooking. In addition, cross contamination will occur during preparation when the bacteria are spread from the contaminated poultry to food handlers, other foods, or objects in the environment.

There have been several recent Salmonella and Campylobacter illness outbreaks linked to chicken liver. From 2000 to 2015, 22 chicken liver-associated illness outbreaks, with 331 total illnesses, were reported to public health authorities in the United States 1 2 3 4. Over half of these outbreaks occurred from 2014 to 2015, and represented 21 to 34 percent of chicken-related outbreaks.5 6 Commonly reported illness outbreak features included:

¹ See FSIS Recall 090-2011 available on FSIS's website at https://www.fsis.usda.gov/wps/wcm/connect/fsis-archives-content/internet/main/topics/recalls-and-public-health-alerts/recall-case-archive/archives/ct_index211a.

² Centers for Disease Control and Prevention (CDC). 2013. Multistate outbreak of Campylobacter jejuni infections associated with undercooked chicken livers—northeastern United States, 2012. MMWR Morb Mortal Wkly Rep 62(44):874-6. Available at: http://www.cdc.gov/mmwr/preview/mmwrhtml/mm6244a2.htm.

³ Centers for Disease Control and Prevention (CDC). 2015. Notes from the field: campylobacteriosis outbreak associated with consuming undercooked chicken liver pâté — Ohio and Oregon, December 2013-January 2014. MMWR Morb Mortal Wkly Rep 64(14):399. Available at: http://www.cdc.gov/mmwr/preview/mmwrhtml/mm6414a7.htm.

⁴ Centers for Disease Control and Prevention. 2017. Notes from the field: outbreak of Campylobacter jejuni associated with consuming undercooked chicken liver mousse—Clark County, Washington, 2016. MMWR Morb Mortal Wkly Rep. 2017 Sep 29;66(38):1027. DOI PubMed.

⁵ Centers for Disease Control and Prevention (CDC). 2016. Surveillance for foodborne disease outbreaks United States, 2014, Annual Report. Available at: https://www.cdc.gov/foodsafety/pdfs/foodborne-outbreaks-annual-report-2014-508.pdf.

⁶ Centers for Disease Control and Prevention (CDC). 2017. Surveillance for foodborne disease outbreaks United States, 2015, Annual Report. Available at: https://www.cdc.gov/foodsafety/pdfs/2015FoodBorneOutbreaks_508.pdf.

(1) Consumption of a blended chicken liver dish (e.g., pâté);

(2) Inadequate cooking of a chicken liver dish; and/or

(3) Consumption of a chicken liver dish outside the home (e.g., in a restaurant).

FSIS is announcing the availability of a guideline to assist FSIS-regulated establishments, retail food outlets, and foodservice entities in minimizing public health risks associated with raw or partially-cooked chicken livers and products made from them. The guideline represents best practice recommendations by FSIS, based on available scientific evidence and practical considerations. FSIS will update the guideline as necessary to reflect comments received and any additional information that becomes available.

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done at Washington, DC.
Paul Kiecker,
Acting Administrator.

[FR Doc. 2018-16197 Filed 7-27-18; 8:45 am]

BILLING CODE 3410-DM-P